DEPARTMENT OF COMMERCE

National Oceanic and Atmospheric Administration

[I.D. 061802A]

Marine Mammals; File No. 895-1450

AGENCY: National Marine Fisheries Service (NMFS), National Oceanic and Atmospheric Administration (NOAA), Commerce.

ACTION: Issuance of permit amendment.

SUMMARY: Notice is hereby given that Rachel Cartwright, P.O. Box 1317, Lahaina, Hawaii 96767, has been issued a minor amendment to scientific research Permit No.895-1450-01.

ADDRESSES: The amendment and related documents are available for review upon written request or by appointment in the following office(s):

Permits, Conservation and Education Division, Office of Protected Resources, NMFS, 1315 East-West Highway, Room 13705, Silver Spring, MD 20910; phone (301)713-2289; fax (301)713-0376;

Regional Administrator, Alaska Region, NMFS, 709 W 9th Street, Federal Building, Room 461, P.O. Box 21668, Juneau, AK 99802 (907/586-7235); and

Protected Species Program Manager, Pacific Islands Area Office, NMFS, NOAA, 1601 Kapiolani Boulevard, Suite 1110, Honolulu, Hawaii 96814-4700 (808/973-2935).

FOR FURTHER INFORMATION CONTACT: Lynne Barre or Jill Lewandowski, (301)713-2289.

SUPPLEMENTARY INFORMATION: The subject amendment to Permit No. 895-1450-01, originally issued on December 23, 1998 (64 FR 862) has been granted under the authority of the Marine Mammal Protection Act of 1972, as amended (16 U.S.C. 1361 et seq.) and the Regulations Governing the Taking and Importing of Marine Mammals (50 CFR part 216).

The permit holder requested authorization to extend Permit No. 895-1450-01 for an additional 12 months. The new expiration date for the permit is April 30, 2003, and the permit number has been changed to No. 895-1450-02 to reflect that the permit has been amended.

Dated: June 19, 2002.
Trevor R. Spradlin,
Acting Chief, Permits, Conservation and Education Division, Office of Protected Resources, National Marine Fisheries Service.

[FR Doc. 02-15993 Filed 6-24-02; 8:45 am]

BILLING CODE 3510-22-S